NATIONAL AERONAUTICS AND SPACE ADMINISTRATION

[Notice 13-030]

Privacy Act of 1974; Privacy Act System of Records

AGENCY: National Aeronautics and Space Administration (NASA).

ACTION: Notice of a Privacy Act system of records.

SUMMARY: Each Federal agency is required by the Privacy Act of 1974 to publish a description of a system of records containing personal information it establishes and maintains. This notice provides notification that NASA has established an internal system pertaining to its Guest Operations that maintains a listing of individuals invited to view one of NASA's satellite launches, Expendable Launch Vehicle (ELV) launches, or other significant events.

DATES: Submit comments within 60 calendar days from the date of this publication.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

NASA 10GOS

SYSTEM NAME:

NASA Guest Operations System.

SECURITY CLASSIFICATION:

None.

SYSTEM LOCATION:

Location 1, as set forth in Appendix A.

CATEGORIES OF INDIVIDUALS COVERED BY THE SYSTEM:

This system maintains information on individuals who have been invited to attend NASA events. These individuals can be members of the NASA community such as principal and prominent management and staff officials, program and project managers, scientists, engineers, speakers, other selected employees involved in newsworthy activities, and other participants in Agency programs, as well members of the general public who are invited to attend NASA events.

CATEGORIES OF RECORDS IN THE SYSTEM:

Records in this system may include personal information about the individuals invited or attending events, such as their names, home addresses, nationality and passport information.

AUTHORITY FOR MAINTENANCE OF THE SYSTEM:

51 U.S.C. 20113(a); 44 U.S.C. 3101.

ROUTINE USES OF RECORDS MAINTAINED IN THE SYSTEM, INCLUDING CATEGORIES OF USERS AND THE PURPOSE OF SUCH USES:

Any disclosures of information will be compatible with the purpose for which the Agency collected the information. Records from this system may be disclosed in accordance with NASA standard routine uses as set forth in Appendix B.

POLICIES AND PRACTICES FOR STORING, RETRIEVING, ACCESSING, RETAINING, AND DISPOSING OF RECORDS IN THE SYSTEM:

STORAGE:

The information contained in this system of records is compiled, updated, and maintained as electronic records in a central database on a secure server at NASA Headquarters.

RETRIEVABILITY:

Records are searched and retrieved by name, business, or address.

SAFEGUARDS:

An approved security plan for this system has been established in accordance with OMB Circular A-130, Management of Federal Information Resources. Individuals will have access to the system only in accordance with approved authentication methods. Only key authorized employees with appropriately configured system roles can access the system and only from workstations within the NASA Intranet.

RETENTION AND DISPOSAL:

Records are retained in a computer database and managed, retained and dispositioned in accordance with the guidelines defined in the NASA Records Retention Schedules (NRRS), Schedule 1, Item 37A.

SYSTEM MANAGER(S) AND ADDRESS:

System Manager: Guest Operations Manager, Office of Communications, Location 1, as set forth in Appendix A.

NOTIFICATION PROCEDURE:

Individuals interested in inquiring about their records should notify the system manager.

RECORD ACCESS PROCEDURE:

Individuals who wish to gain access to their records should submit their request in writing to the system manager.

CONTESTING RECORD PROCEDURES:

The NASA regulations governing access to records, procedures for contesting the contents and for appealing initial determinations are set forth in 14 CFR part 1212.

RECORD SOURCE CATEGORIES:

The information contained in the GOS is obtained directly from the individuals, who provide the information on a voluntary basis.

EXEMPTIONS CLAIMED FOR THE SYSTEM:

None.

Linda Cureton,
NASA Chief Information Officer.

[FR Doc. 2013-07590 Filed 4-1-13; 8:45 am]

BILLING CODE 7510-13-P